NATIONAL AERONAUTICS AND SPACE ADMINISTRATION

48 CFR Parts 1802, 1805, 1819, 1825, 1827, 1828, and 1852

RIN 2700-31

NASA FAR Supplement Administrative Changes

AGENCY: National Aeronautics and Space Administration.

ACTION: Final rule.

SUMMARY: This final rule makes administrative changes to the NASA FAR Supplement (NFS) to update dollar thresholds, correct a document title, and delete an obsolete clause.

EFFECTIVE DATE: This rule is effective December 8, 2006.

FOR FURTHER INFORMATION CONTACT: Tom O'Toole, NASA, Office of Procurement, Contract Management Division (Suite 5J86); (202) 358-0478; e-mail: thomas.otoole@nasa.gov.

SUPPLEMENTARY INFORMATION:

A. Background

This final rule makes several administrative changes to the NFS. The dollar thresholds in 1805.303(a)(i), 1819.7103, 1819.7219(a)(2), 1825.400(b), and 1828.103-70(a)(2) are revised to reflect the recent FAR changes made by Federal Acquisition Circular 2005-13 to adjust acquisition-related thresholds for inflation, in accordance with 41 U.S.C. 431a as added by section 807 of the Ronald W. Reagan National Defense Authorization Act for Fiscal Year 2005 (Pub. L. 108-375).

This rule deletes NFS Subpart 1827.6, Foreign License and Technical Assistance Agreements, and the clause at NFS 1852.227-87, Transfer of Technical Data Under Space Station International Agreements. This subpart and clause were developed for the Space Station Freedom Program, which was cancelled in 1993. In February 2000, the related subject matter was addressed for all NASA programs and projects (including the International Space Station Program) in the clause at 1852.225-70, Export Licenses, and its associated guidance at 1825.1103-70. The subject coverage was thus rendered obsolete, but its deletion was overlooked.

This rule also revises the “Head of the contracting activity” definition in 1802.101 to reflect an organizational change.

This rule corrects the outdated address for the Center for AeroSpace Information in the clauses at 1852.235-70, Center for AeroSpace Information, and 1852.235-73, Final Scientific and Technical Reports, by deleting the street address and substituting the Internet address.

This is not a significant regulatory action and, therefore, was not subject to review under Section 6(b) of Executive Order 12866, Regulatory Planning and Review, dated September 30, 1993. This interim rule is not a major rule under 5 U.S.C. 804.

B. Regulatory Flexibility Act

The Regulatory Flexibility Act does not apply to this final rule. This final rule does not constitute a significant revision within the meaning of FAR 1.501 and Public Law 98-577, and publication for public comment is not required. However, NASA will consider comments from small entities concerning the affected NFS coverage in accordance with 5 U.S.C. 610. Interested parties should cite 5 U.S.C. 601, et seq., in correspondence.

C. Paperwork Reduction Act

The Paperwork Reduction Act (Pub. L. 104-13) is not applicable because the NFS changes do not impose information collection requirements that require the approval of the Office of Management and Budget under 44 U.S.C. 3501, et seq.

List of Subjects in 48 CFR Parts 1802, 1805, 1819, 1825, 1827, 1828, and 1852

Government procurement.

Sheryl Goddard,
Acting Assistant Administrator for Procurement.

Accordingly, 48 CFR Parts 1802, 1805, 1819, 1825, 1827, 1828, and 1852 are amended as follows:

1. The authority citation for 48 CFR Parts 1802, 1805, 1819, 1825, 1827, 1828, and 1852 continues to read as follows:

Authority: 42 U.S.C. 2473(c)(1).

PART 1802—DEFINITIONS OF WORDS AND TERMS

2. Amend section 1802.101 by removing the words “Assistant Administrator for Management Systems” in the first sentence of the definition of “Head of the contracting activity (HCA)” and adding “Director for Headquarters Operations” in its place.

PART 1805—PUBLICIZING CONTRACT ACTIONS

3. Amend section 1805.303 by removing the reference to “$3 million” in paragraph (a)(i) and adding “$3.5 million” in its place.

PART 1819—SMALL BUSINESS PROGRAMS

4. Amend section 1819.7103 by removing the reference to “$500,000” and adding “$550,000” in its place.

5. Amend section 1819.7219 by removing the reference to “$500,000” in paragraph (a)(2) and adding “$550,000” in its place.

PART 1825—FOREIGN ACQUISITION

6. Amend section 1825.400 by removing the reference to “$2,500” in paragraph (b) and adding “$3,000” in its place.

PART 1827—PATENTS, DATA, AND COPYRIGHTS

7. Remove Subpart 1827.6.

PART 1828—BONDS AND INSURANCE

8. Amend section 1828.103-70 by removing the reference to “$25,000” in paragraph (a)(2) and adding “$30,000” in its place.

PART 1852—SOLICITATION PROVISIONS AND CONTRACT CLAUSES

9. Remove section 1852.227-87.

10. Amend section 1852.235-70 by revising the date of the clause and paragraph (c) to read as follows:

1852.235-70 Center for AeroSpace Information.

* * * * *

Center for Aerospace Information DEC/2006

* * * * *

(c) Information regarding CASI and the services available can be obtained at the Internet address contained in paragraph (a) of this clause.

* * * * *

11. Amend section 1852.235-73 by revising the date of the clause and paragraph (d) to read as follows:

1852.235-73 Final Scientific and Technical Reports.

* * * * *

Final Scientific and Technical Reports DEC/2006

* * * * *

(d) In addition to the final report submitted to the Contracting Officer, the Contractor shall concurrently provide to the Center STI/Publication Manager and the NASA Center for AeroSpace Information (CASI) a copy of the letter transmitting the final report to the Contracting Officer. The copy of the letter shall be submitted to CASI at the address listed at http://www.sti.nasa.gov under the “Get Help” link.

* * * * *

[FR Doc. E6-20783 Filed 12-7-06; 8:45 am]

BILLING CODE 7510-01-P